DEPARTMENT OF COMMERCE

International Trade Administration

Cyber Security Trade Mission to Turkey

ACTION: Supplemental notice.

SUMMARY: The United States Department of Commerce, International Trade Administration, is amending the Notice published at 80 FR 76670 (December 10, 2015), regarding the Information and Communication Technology Trade Mission to Turkey, scheduled for November 28-December 1, 2016, to amend the title, dates, and deadline for submitting applications for the event.

SUPPLEMENTARY INFORMATION: Amendments to Revise the Event Title and Dates.

Background

Due to the U.S. holidays around the original dates of the mission, it has been determined that to allow for optimal execution of recruitment and event scheduling for the mission, the title of the mission was amended from “Information and Communication Technology Trade Mission” to “Cyber Security Trade Mission,” and the dates of the mission modified from November 28-December 1, 2016, to December 5-8, 2016. As a result of the shift of the event dates the date of the application deadline is revised from September 6, 2016 to the new deadline of September 16, 2016. Applications will now be accepted through September 16, 2016 (and after that date if space remains and scheduling constraints permit). Interested U.S. companies and trade associations/organizations providing cyber security products and services which have not already submitted an application are encouraged to do so.

The proposed schedule is updated as follows:

Sunday Dec. 4 | • Trade Mission Participants Arrive in Istanbul.
| • Visit the city (Optional).
| • Mission Welcome Meet-up.
Monday Dec. 5 | • Welcome to Istanbul and Country Briefing (Turkey).
| • One-on-One business matchmaking appointments.
| • Networking Lunch.
| • One-on-One business matchmaking appointments.
| • Networking Reception (TBC).
Tuesday Dec. 6 | • One-on-One business matchmaking appointments.
| • Networking Lunch.
| • Travel to Ankara.
Wednesday Dec. 7 | • Welcome to Ankara.
| • One-on-One business matchmaking appointments.
| • Networking Lunch.
| • One-on-One business matchmaking appointments.
| • Networking Reception.
Thursday Dec. 8 | • Ministry Meetings.
| • Networking Lunch.
| • More meetings.
| • Trade Mission Ends.

The U.S. Department of Commerce will review applications and make selection decisions on a rolling basis in accordance with the Notice published at 80 FR 76670 (December 10, 2015). The applicants selected will be notified as soon as possible.

Contact Information

Gemal Brangman, Team Leader, Trade Promotion Programs, U.S. Department of Commerce, Washington, DC 20230, Tel: 202-482-3773, Fax: 202-482-9000, Gemal.Brangman@trade.gov.

Gemal J. Brangman,
Trade Promotion Programs Team Leader.

[FR Doc. 2016-15842 Filed 7-6-16; 8:45 am]

BILLING CODE 3510-FP-P